ADMINISTRATIVE CONFERENCE OF THE UNITED STATES

Notice of Public Meeting of the Assembly of the Administrative Conference of the United States

AGENCY: Administrative Conference of the United States.

ACTION: Notice.

SUMMARY: Pursuant to the Federal Advisory Committee Act, the Assembly of the Administrative Conference of the United States will hold a meeting to consider four proposed recommendations and to conduct other business. This meeting will be open to the public.

DATES: The meeting will take place on Tuesday, December 13, 2016, 1:00 p.m. to 5:30 p.m., and Wednesday, December 14, 2016, 9:00 a.m. to 12:00 noon. The meeting may adjourn early if all business is finished.

ADDRESSES: The meeting will be held at the Commodity Futures Trading Commission, Three Lafayette Centre, 1155 21st Street NW., Washington, DC 20581 (Main Conference Room).

FOR FURTHER INFORMATION CONTACT: Shawne McGibbon, General Counsel (Designated Federal Officer), Administrative Conference of the United States, Suite 706 South, 1120 20th Street NW., Washington, DC 20036; Telephone 202-480-2088; email smcgibbon@acus.gov.

SUPPLEMENTARY INFORMATION: The Administrative Conference of the United States makes recommendations to federal agencies, the President, Congress, and the Judicial Conference of the United States regarding the improvement of administrative procedures (5 U.S.C. 594). The membership of the Conference, when meeting in plenary session, constitutes the Assembly of the Conference (5 U.S.C. 595).

Agenda: The Assembly will consider four proposed recommendations as described below:

Social Security Administration Federal Courts Analysis. This proposed recommendation encourages the Judicial Conference of the United States to develop a uniform set of procedural rules for social security cases commenced in federal court that involve claims for benefits arising under Titles II and XVI of the Social Security Act. It also highlights areas in which such rules should be adopted and sets forth criteria for the promulgation of additional rules.

Informal Agency Adjudication. This proposed recommendation offers best practices to agencies for structuring evidentiary hearings that are not required by the Administrative Procedure Act. It suggests ways to ensure the integrity of the decisionmaking process; sets forth recommended pre-hearing, hearing, and post-hearing practices; and urges agencies to describe their practices in a publicly accessible document and seek periodic feedback on those practices.

The Ombudsman in Federal Agencies. This proposed recommendation takes account of the broad array of federal agency ombudsman offices that have been established since the Administrative Conference's adoption in 1990 of Recommendation 90-2 on the same subject, https://www.acus.gov/recommendation/ombudsman-federal-agencies. The new recommendation continues to urge both agencies and Congress to consider creating additional ombudsman offices that provide an opportunity for individuals to raise issues confidentially and receive assistance in resolving them without fear of retribution. The recommendation emphasizes the importance of adherence to the three core standards of independence, confidentiality, and impartiality, and identifies best practices for the operation, staffing, and evaluation of federal agency ombudsman offices.

Self-Represented Parties in Administrative Hearings. This proposed recommendation offers best practices for agencies dealing with self-represented parties in administrative hearings. Recommendations include the use of triage and diagnostic tools, development of a continuum of services to aid parties, and re-evaluation and simplification of existing hearing practices, where possible. The project builds on the activity of a working group on Self-Represented Parties in Administrative Hearings that is co-led by the Administrative Conference and the Department of Justice's Office for Access to Justice.

Additional information about the proposed recommendations and the order of the agenda, as well as other materials related to the meeting, can be found at the 66th Plenary Session page on the Conference's Web site: https://www.acus.gov/meetings-and-events/plenary-meeting/66th-plenary-session.

Public Participation: The Conference welcomes the attendance of the public at the meeting, subject to space limitations, and will make every effort to accommodate persons with disabilities or special needs. Members of the public who wish to attend in person are asked to RSVP online at the 66th Plenary Session Web page listed above, no later than Friday, December 9, 2016, in order to facilitate entry. Members of the public who attend the meeting may be permitted to speak only with the consent of the Chairman and the unanimous approval of the members of the Assembly. If you need special accommodations due to disability, please inform the Designated Federal Officer noted above no later than Tuesday, December 6, 2016. The public may also view the meeting through a live webcast, which will be available at: https://livestream.com/ACUS/66thPlenary.

Written Comments: Persons who wish to comment on any of the proposed recommendations may do so by submitting a written statement either online by clicking “Submit a Comment” on the 66th Plenary Session Web page listed above or by mail addressed to: December 2016 Plenary Session Comments, Administrative Conference of the United States, Suite 706 South, 1120 20th Street NW., Washington, DC 20036. Written submissions must be received no later than 10:00 a.m. (EST), Wednesday, December 7, to assure consideration by the Assembly.

Dated: November 21, 2016.
Shawne McGibbon,
General Counsel.

[FR Doc. 2016-28402 Filed 11-23-16; 8:45 am]

BILLING CODE 6110-01-P